OFFICE OF PERSONNEL MANAGEMENT

Excepted Service

AGENCY: Office of Personnel Management (OPM).

ACTION: Notice.

SUMMARY: This notice identifies Schedule A, B, and C appointing authorities applicable to a single agency that were established or revoked from October 1, 2020 to October 31, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

32. Small Business Administration (Sch A, 213.3132)

(a) When the President under 42 U.S.C. 5170-5189, the Secretary of Agriculture under 7 U.S.C. 1961, or the Small Business Administration under 15 U.S.C. 636(b)(1) declares an area to be a disaster area, positions filled by time-limited appointment of employees to make and administer disaster loans in the area under the Small Business Act, as amended. Service under this authority may not exceed 7 years. Exception to this time limit may only be made with prior U.S. Office of Personnel Management approval. No one may be appointed under this authority to positions engaged in long-term maintenance of loan portfolios.

Schedule B

No Schedule B Authorities to report during October 2020.

Schedule C

The following Schedule C appointing authorities were approved during October 2020.

Agency name | Organization name | Position title | Authorization No. | Effective date
DEPARTMENT OF AGRICULTURE | Office of the Secretary | Deputy White House Liaison | DA200154 | 10/20/2020
DEPARTMENT OF COMMERCE | Minority Business Development Agency | Advisor | DC200151 | 10/29/2020
| Office of Public Affairs | Deputy Speech Writer | DC210001 | 10/05/2020
| Office of the Chief of Staff | Director, Center for Faith and Opportunity Initiatives | DC200129 | 10/13/2020
DEPARTMENT OF DEFENSE | Office of the Secretary of Defense | Deputy White House Liaison | DD210003 | 10/13/2020
DEPARTMENT OF THE ARMY | Office Deputy Under Secretary of Army | Special Assistant | DW200046 | 10/13/2020
DEPARTMENT OF EDUCATION | Office of the General Counsel | Confidential Assistant | DB210001 | 10/09/2020
DEPARTMENT OF ENERGY | Office of the Assistant Secretary for Energy Efficiency and Renewable Energy | Deputy Chief of Staff | DE200204 | 10/05/2020
| Office of Management | Senior Advisor | DE200195 | 10/02/2020
| Office of the Secretary | Deputy White House Liaison | DE210002 | 10/05/2020
ENVIRONMENTAL PROTECTION AGENCY | Office of Public Affairs | Deputy Associate Administrator for Policy | EP200109 | 10/17/2020
| Office of the Administrator | Senior Advisor | EP200102 | 10/02/2020
|  | White House Liaison | EP210001 | 10/02/2020
| Office of the Assistant Administrator for Mission Support | Senior Advisor | EP200119 | 10/09/2020
| Office of the Associate Administrator for Congressional and Intergovernmental Relations | Assistant Deputy Associate Administrator for Senate Affairs | EP200090 | 10/02/2020
| Office of the General Counsel | Special Advisor for the Office of General Counsel | EP200116 | 10/02/2020
DEPARTMENT OF HEALTH AND HUMAN SERVICES | Office of Global Affairs | Chief of Staff | DH200186 | 10/16/2020
| Office of Refugee Resettlement/Office of the Director Confidential Assistant | Special Assistant | DH210003 DH210004 | 10/17/2020 10/17/2020
| Office of the Assistant Secretary for Health | Policy Advisor | DH200184 | 10/09/2020
| Office of the Assistant Secretary for Legislation | Policy Advisor | DH200185 | 10/17/2020
DEPARTMENT OF HOMELAND SECURITY | Office of Management Directorate Office of Strategy, Policy, and Plans | Communications Specialist Special Assistant | DM210009 DM210014 | 10/13/2020 10/19/2020
| Office of the General Counsel | Oversight Counsel | DM190073 | 10/17/2020
| United States Immigration and Customs Enforcement | Press Assistant | DM210004 | 10/13/2020
DEPARTMENT OF HOUSING AND URBAN DEVELOPMENT | Office of Congressional and Intergovernmental Relations | Congressional Relations Specialist | DU200133 | 10/29/2020
| Office of Public Affairs | Special Assistant | DU210009 | 10/29/2020
DEPARTMENT OF THE INTERIOR | Office of the Assistant Secretary—Policy, Management and Budget | Senior Advisor | DI200099 | 10/26/2020
| Office of Congressional and Legislative Affairs | Senior Advisor | DI200102 | 10/26/2020
| Secretary's Immediate Office | White House Liaison | DI200122 | 10/05/2020
DEPARTMENT OF JUSTICE | Office of Justice Programs | Advisor for Research and Statistics | DJ200157 | 10/09/2020
| Office of the Attorney General | Advisor | DJ200171 | 10/20/2020
|  | Deputy White House Liaison and Advisor | DJ210002 | 10/20/2020
DEPARTMENT OF LABOR | Office of Congressional and Intergovernmental Affairs | Senior Legislative Officer | DL200160 | 10/09/2020
| Office of Wage and Hour Division | Policy Advisor | DL200190 | 10/17/2020
NATIONAL AERONAUTICS AND SPACE ADMINISTRATION | Office of Communications | Communication Specialist | NN200040 | 10/01/2020
OFFICE OF MANAGEMENT AND BUDGET | Office of the Director | Special Assistant | BO200036 | 10/09/2020
| Office of Health Division | Special Assistant | BO200046 | 10/09/2020
| Natural Resource Programs | Confidential Assistant | BO210002 | 10/29/2020
SMALL BUSINESS ADMINISTRATION | Office of Investment and Innovation | Senior Advisor | SB210001 | 10/09/2020
| Office of Field Operations | Senior Advisor | SB210002 | 10/17/2020
DEPARTMENT OF TRANSPORTATION | Office of Public Affairs | Press Secretary and Senior Public Affairs Advisor | DT200133 | 10/07/2020
| Office of the Assistant Secretary for Research and Technology | Economic Advisor | DT200145 | 10/07/2020
DEPARTMENT OF THE TREASURY | Secretary of the Treasury | Associate Director of Scheduling and Advance | DY200123 | 10/09/2020
| Office of the Under Secretary for International Affairs | Senior Advisor | DY200125 | 10/09/2020
DEPARTMENT OF VETERANS AFFAIRS | Office of Intergovernmental Affairs Office of the Assistant Secretary for Congressional and Legislative Affairs | Special Assistant Special Assistant | DV200105 DV200097 | 10/01/2020 10/17/2020

There were no Schedule C appointing authorities revoked during October 2020.

Authority: 5 U.S.C. 3301 and 3302; E.O. 10577, 3 CFR, 1954-1958 Comp., p. 218.

Office of Personnel Management.
Alexys Stanley,
Regulatory Affairs Analyst.

[FR Doc. 2021-02253 Filed 2-3-21; 8:45 am]

BILLING CODE 6325-39-P